DEPARTMENT OF COMMERCE

National Oceanic and Atmospheric Administration

Public Comment for a Draft NOAA Science and Technology Strategy: Citizen Science

AGENCY: National Oceanic and Atmospheric Administration (NOAA), Department of Commerce (DOC).

ACTION: Notice of public comment.

SUMMARY: This notice announces the availability for public comment of the NOAA Citizen Science draft strategy. This strategy is intended to dramatically expand our application of this emerging science and technology focus area by improving the efficiency, effectiveness and coordination of its development and usage across the agency.

DATES: Comments must be received by September 8, 2020.

ADDRESSES: A copy of the draft strategy may be downloaded or viewed on the internet at: https://nrc.noaa.gov/NOAA-Science-Technology-Focus-Areas. You may submit public comments via email to oar.rc.execsec@noaa.gov. Please include “Public Comment on Draft NOAA Citizen Science Strategy” in the subject line of the message. All personal identifying information (e.g., name, address, etc.), confidential business information, or otherwise sensitive information submitted voluntarily by the sender is publicly accessible. NOAA will accept anonymous comments.

FOR FURTHER INFORMATION CONTACT: John McLaughlin, NOAA Office of Education (Phone: 202-253-1977, Email: john.mclaughlin@noaa.gov), or Laura Oremland, NOAA Fisheries Office of Science and Technology (Phone: 301-427-8162, Email: laura.oremland@noaa.gov).

SUPPLEMENTARY INFORMATION: Volunteer observations have played a role in informing our Nation's prediction and management of weather, oceans and coasts for over a century. New and emerging technologies are expanding ways that these volunteers can participate. NOAA is well positioned to leverage and contribute to this growth. Citizen science was recently named a Science and Technology Focus Area for the agency to ensure robust agency-wide coordination and strong institutional support from NOAA senior leadership to guide efforts in this area.

This draft strategy is designed to provide a path for NOAA to fully leverage the power of public participation in support of agency mission areas. It was created to complement NOAA's other Science and Technology Focus Areas (also available at: https://nrc.noaa.gov/NOAA-Science-Technology-Focus-Areas)—Artificial Intelligence, Cloud Computing, Data, `Omics, and Unmanned Systems—and help the U.S. continue to lead in developing innovative, cost-effective and collaborative solutions to global environmental and technology issues.

After completion of this strategy, NOAA will develop a corresponding Strategic Implementation Plan (or “Roadmap”) that defines detailed action items, deadlines, and responsibilities. In the meantime, citizen science is already working with the other NOAA Science and Technology focus areas to help improve performance in our economically impactful missions and setting the course to strengthen our renowned environmental science and technology leadership for the coming decades.

Dated: July 28, 2020.
David Holst,
Director Chief Financial Officer/CAO, Office of Oceanic and Atmospheric Research, National Oceanic and Atmospheric Administration.

[FR Doc. 2020-16895 Filed 8-5-20; 8:45 am]

BILLING CODE 3510-KD-P